DEPARTMENT OF THE TREASURY

Office of the Comptroller of the Currency

Agency Information Collection Activities: Information Collection Renewal; Submission for OMB Review; Electronic Operations

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995 (PRA).

In accordance with the requirements of the PRA, the OCC may not conduct or sponsor, and the respondent is not required to respond to, an information collection unless it displays a currently valid Office of Management and Budget (OMB) control number.

The OCC is soliciting comment concerning renewal of its information collection titled, “Electronic Operations.” The OCC is also giving notice that it has sent the collection to OMB for review.

DATES: Comments must be submitted on or before December 24, 2014.

ADDRESSES: Because paper mail in the Washington, DC area and at the OCC is subject to delay, commenters are encouraged to submit comments by email if possible. Comments may be sent to: Legislative and Regulatory Activities Division, Office of the Comptroller of the Currency, Attention: 1557-0301, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

Additionally, please send a copy of your comments by mail to: OCC Desk Officer, 1557-0301, U.S. Office of Management and Budget, 725 17th Street NW., #10235, Washington, DC 20503, or by email to: oira_submission@omb.eop.gov.

FOR FURTHER INFORMATION CONTACT: Johnny Vilela or Mary H. Gottlieb, OCC Clearance Officers, (202) 649-5490, for persons who are deaf or hard of hearing, TTY, (202) 649-5597, Legislative and Regulatory Activities Division, Office of the Comptroller of the Currency, 400 7th Street SW., Suite 3E-218, Mail Stop 9W-11, Washington, DC 20219.

SUPPLEMENTARY INFORMATION: Under the PRA (44 U.S.C. 3501-3520), Federal agencies must obtain approval from OMB for each collection of information they conduct or sponsor. “Collection of information” is defined in 44 U.S.C. 3502(3) and 5 CFR 1320.3(c) to include agency requests or requirements that members of the public submit reports, keep records, or provide information to a third party.

The OCC is proposing to extend OMB approval of this collection for three years:

Title: Electronic Operations.

OMB Control No.: 1557-0301.

Frequency of Response: On occasion.

Affected Public: Business or other for-profit.

Number of Respondents: 15.

Burden per Respondent: 2 hours.

Total Burden: 30 hours.

Description: Twelve CFR part 155 provides that Federal savings associations (FSAs) may use, or participate with others to use, electronic means or facilities to perform any function, or provide any product or service, as part of an authorized activity. Electronic means or facilities include, but are not limited to, automated teller machines, automated loan machines, personal computers, the Internet, the World Wide Web, telephones, and other similar electronic devices. The regulation requires each FSA to notify the OCC at least 30 days before establishing a transactional Web site. A transactional Web site is an Internet site that enables users to conduct financial transactions such as accessing an account, obtaining an account balance, transferring funds, processing bill payments, opening an account, applying for or obtaining a loan, or purchasing other authorized products or services. FSAs that present supervisory or compliance concerns may be subject to additional procedural requirements.

This information collection facilitates the OCC's ability to identify industry technology trends and better understand emerging technologies. The information is collected on a transactional basis and is used to ensure that safety and soundness requirements are being met.

On July 28, 2014, OCC issued a notice for 60 days of comment concerning this collection. 79 FR 42823. One comment was received.

One commenter asked whether the collection of information is necessary for the proper performance of the OCC's functions, including whether the information has practical utility.

The commenter described the collection as an “anachronism” that “no longer reflects the realities and risks of current times.” The commenter further noted that the Internet has been widely used as a channel for offering and conducting banking services for many years and that the OCC likewise has many years of supervisory experience with “transactional Web sites,” which would seem to obviate the continued need for notice and collection of this information. Finally, the commenter stated that the information collection is not an effective way of understanding industry trends and emerging technologies, contending that FSAs as a group “tend to be slow adopters of new technology” and noting that national banks are not subject to a similar requirement.

The OCC appreciates the commenter's perspective. In response, the OCC will give careful consideration to the comment in connection with the OCC's national bank and FSA rule integration efforts, in particular whether a notice requirement is still necessary for transactional Web sites.

Comments continue to be solicited on:

(a) Whether the collections of information are necessary for the proper performance of the OCC's functions, including whether the information has practical utility;

(b) The accuracy of the OCC's estimates of the burden of the information collections, including the validity of the methodology and assumptions used;

(c) Ways to enhance the quality, utility, and clarity of the information to be collected; and

(d) Ways to minimize the burden of information collections on respondents, including through the use of automated collection techniques or other forms of information technology.

Dated: November 18, 2014.
Stuart E. Feldstein,
Legislative and Regulatory Activities Division.

[FR Doc. 2014-27686 Filed 11-21-14; 8:45 am]

BILLING CODE 4810-33-P